DEPARTMENT OF HEALTH AND HUMAN SERVICES

National Institutes of Health

National Cancer Institute; Notice of Meeting

Pursuant to section 10(a) of the Federal Advisory Committee Act, as amended (5 U.S.C. App.), notice is hereby given of a meeting of the National Cancer Institute Director's Consumer Liaison Group.

The meeting will be open to the public, with attendance limited to space available. Individuals who plan to attend and need special assistance, such as sign language interpretation or other reasonable accommodations, should notify the Contact Person listed below in advance of the meeting.

Name of Committee: National Cancer Institute Director's Consumer Liaison Group; DCLG.

Date: May 18-20, 2011.

Time: May 18, 2011, 12 p.m. to 5 p.m.

Agenda: Welcome, Panel Discussion on Public Private Partnership Models, Clinical Research Organizations and How They Promote Public Private Partnerships, Board Dialogue.

Place: Rizzo Conference Center, 150 DuBose House Lane, Chapel Hill, NC 27517.

Time: May 19, 2011, 8 a.m. to 5 p.m.

Agenda: Board Dialogue, Nonprofit Conveners Driving Implementation of Research Outcomes, Barriers to Implementation of Research Outcomes, Presentations Highlighting Local Academic Research in Cancer.

Place: Rizzo Conference Center, 150 DuBose House Lane, Chapel Hill, NC 27517.

Time: May 20, 2011, 8 a.m. to 12 p.m.

Agenda: NCI Leadership Update, Board Dialogue.

Place: Rizzo Conference Center, 150 DuBose House Lane, Chapel Hill, NC 27517.

Contact Person: Shannon K. Bell, MSW, Director, Office of Advocacy Relations, National Cancer Institute, National Institutes of Health, 31 Center Drive, Building 31, Room 10A30D, Bethesda, MD 20892, 301-451-3393.

Information is also available on the Institute's/Center's home page: deainfo.nci.nih.gov/advisory/dclg/dclg.htm, where an agenda and any additional information for the meeting will be posted when available.

(Catalogue of Federal Domestic Assistance Program Nos. 93.392, Cancer Construction; 93.393, Cancer Cause and Prevention Research; 93.394, Cancer Detection and Diagnosis Research; 93.395, Cancer Treatment Research; 93.396, Cancer Biology Research; 93.397, Cancer Centers Support; 93.398, Cancer Research Manpower; 93.399, Cancer Control, National Institutes of Health, HHS)

Dated: April 7, 2011.
Jennifer S. Spaeth,
Director, Office of Federal Advisory Committee Policy.

[FR Doc. 2011-8929 Filed 4-12-11; 8:45 am]

BILLING CODE 4140-01-P